ENVIRONMENTAL PROTECTION AGENCY

[EPA-R06-OW-2017-0017; FRL-9958-31-Region 6]

Proposed Reissuance of the NPDES General Permit for Facilities Related to Oil and Gas Extraction in the Territorial Seas of Texas

AGENCY: Environmental Protection Agency (EPA).

ACTION: Notice of availability for comment.

SUMMARY: The Director of the Water Division, Environmental Protection Agency (EPA) Region 6 today proposes to reissue the National Pollutant Discharge Elimination System (NPDES) general permit for the Territorial Seas of Texas (No. TXG260000) for discharges from existing and new dischargers and New Sources in the Offshore Subcategory of the Oil and Gas Extraction Point Source Category as authorized by section 402 of the Clean Water Act, 33 U.S.C. 1342. The permit will supersede the previous general permit (TXG260000) issued on February 8, 2012 and published in the Federal Register at 77 FR 8855. This permit renewal authorizes discharges from exploration, development, and production facilities located in and discharging to the territorial seas off Texas.

Comment: Submit your comments, identified by Docket ID No. EPA-R06-OW-2017-0017 to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

DATES: Comments must be received by March 6, 2017.

FOR FURTHER INFORMATION CONTACT: Ms. Evelyn Rosborough, Region 6, U.S. Environmental Protection Agency, 1445 Ross Avenue, Dallas, Texas 75202-2733. Telephone: (214) 665-7515. Email: rosborough.evelyn@epa.gov.

A complete draft permit and a fact sheet more fully explaining the proposal may be obtained from Ms. Rosborough. In addition, the Agency's current administrative record on the proposal is available for examination at the Region's Dallas offices during normal working hours after providing Ms. Rosborough 24 hours advance notice. A copy of the proposed permit, fact sheet, and this Federal Register Notice may be found on the EPA Region 6 Web site at: https://www3.epa.gov/region6/water/npdes/genpermit/index.htm.

SUPPLEMENTARY INFORMATION: EPA intends to use the proposed reissued permit to regulate discharges from oil and gas extraction facilities located in the territorial seas off Texas. To obtain discharge authorization, operators of such facilities must submit a new Notice of Intent (NOI). To determine whether your (facility, company, business, organization, etc.) is regulated by this action, you should carefully examine the applicability criteria in Part I, Section A.2 of the permit. If you have questions regarding the applicability of this action to a particular entity, consult the person listed in the FOR FURTHER INFORMATION CONTACT section above. The proposed permit contains limitations conforming to EPA's Oil and Gas Extraction, Offshore Subcategory Effluent Limitation Guidelines at 40 CFR part 435 and additional requirements assuring that regulated discharges will not cause unreasonable degradation of the marine environment, as required by section 403(c) of the Clean Water Act. Limitations and conditions are also included to ensure compliance with State Water Quality Standards. Specific information on the derivation of those limitations and conditions is contained in the fact sheet. Specifically, the draft permit proposes to prohibit the discharge of drilling fluids, drill cuttings and produced sand. Produced water discharges are limited for oil and grease, 7-day chronic toxicity, and 48-hour acute toxicity. In addition to limits on oil and grease, the proposed permit includes a prohibition of the discharge of priority pollutants except in trace amounts in well treatment, completion, and workover fluids. A limit of “No Free Oil” is proposed for miscellaneous discharges, such as non-contact cooling water and ballast water, and on deck drainage discharges. Discharges of seawater and freshwater which have been used to pressure test existing pipelines and piping, to which treatment chemicals have been added, are proposed to be subject to limitations on free oil, concentration of treatment chemicals, and acute toxicity. New facilities withdrawing cooling water greater than 2 million gallons per day (MGD) are required to have the best technology available for minimizing fish/shellfish impingement mortality and entrainment caused by cooling water intake structures. Pursuant to the electronic reporting rule published in the Federal Register (80 FR 64063), a new electronic reporting requirement is added to the proposed permit.

Other Legal Requirements

State certification under section 401 of the CWA; consistency with the Texas Coastal Management Program; and compliance with National Environmental Policy Act, Endangered Species Act, Magnuson-Stevens Fishery Conservation and Management Act, Historic Preservation Act, Paperwork Reduction Act, and Regulatory Flexibility Act requirements are discussed in the fact sheet to the proposed permit.

Dated: December 28, 2016.
William K. Honker,
Director, Water Division, EPA Region 6.

[FR Doc. 2017-01082 Filed 1-18-17; 8:45 am]

BILLING CODE 6560-50-P